FEDERAL COMMUNICATIONS COMMISSION

47 CFR Part 69

[WC Docket No. 05-25, RM-10593; DA 14-302]

Special Access Proceeding; Comment Deadline Extended

AGENCY: Federal Communications Commission.

ACTION: Proposed rule; extension of comment and reply comment period.

SUMMARY: In this document, the Wireline Competition Bureau (Bureau) extends the deadline for filing comments and reply comments on section IV.B of the Further Notice of Proposed Rulemaking in the special access proceeding. This extension is necessary to allow time for the Federal Communications Commission (Commission) to collect data on the special access market prior to the submission of comments and replies.

DATES: Comments for section IV.B are due on or before October 6, 2014, and reply comments are due on or before November 17, 2014.

ADDRESSES: You may submit comments identified by WC Docket No. 05-25 and RM-10593 by any of the following methods:

Federal Communications Commission's Web site: http://fjallfoss.fcc.gov/ecfs2/. Follow the instructions for submitting comments.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: William Layton, Pricing Policy Division, Wireline Competition Bureau, 202-418-0868 or William.Layton@fcc.gov.

SUPPLEMENTARY INFORMATION: This is a synopsis of the Commission's document, WC Docket No. 05-25, RM-10593; DA 14-302, released March 5, 2014. The full text of this document is available for public inspection and copying during normal business hours in the FCC Reference Information Center, 445 12th Street, SW., Room CY-A257, Washington, DC 20554. The complete text of this document and related Commission documents may be purchased from the Commission's duplicating contractor, Best Copy and Printing, Inc. (BCPI), Portals II, 445 12th Street SW., Room CY-B402, Washington, DC 20554, via telephone at (202) 488-5300, via facsimile at (202)488-5563, or via email at the Commission's Web site at http://hraunfoss.fcc.gov/edocs_public/attachmatch/DA-14-302A1.docx.

Background

On December 11, 2012, the Commission adopted a Report and Order and Further Notice of Proposed Rulemaking requiring providers and purchasers of special access and certain entities providing “best efforts” service to submit data and information for a comprehensive evaluation of the special access market. In the Further Notice of Proposed Rulemaking (FNPRM), the Commission sought comment on possible changes to its rules for granting pricing flexibility for the special access services provided by incumbent local exchange carriers in price cap areas; the Commission invited interested parties to provide such comments after the Commission collected data for the market analysis to enable commenters to include analysis of such data in their comments. The Bureau has been working diligently to implement the data collection, which is subject to the Office of Management and Budget's (OMB) approval per the Paperwork Reduction Act (PRA). In July 2013, the Wireline Competition Bureau (Bureau) extended the deadlines for filing comments and reply comments regarding the rule changes to March 19, 2014, and April 30, 2014, respectively, “so that parties may prepare their comments after the data are collected and made available for review.” The Bureau expects to begin collecting data in summer, 2014, following OMB approval of the data collection.

Synopsis

The Wireline Competition Bureau (Bureau) extends the deadline for filing comments and reply comments on section IV.B of the FNPRM, 78 FR 2600, January 11, 2013, that was adopted on December 11, 2012 in the special access proceeding. Collection of the data is necessary before parties can comment on the questions posed in the FNPRM. Accordingly, we extend the deadline for filing comments and reply comments so that parties may prepare their comments after the data are collected and made available for review. The new comment date is October 6, 2014, and the new reply comment date is November 17, 2014.

Comment Filing Procedures

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121, May 1, 1998.

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

People with Disabilities: To request materials in accessible formats for people with disabilities (braille, large print, electronic files, audio format), send an email to fcc504@fcc.gov or call the Consumer & Governmental Affairs Bureau at 202-418-0530 (voice), 202-418-0432 (tty).

The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Deena Shetler,
Associate Bureau Chief, Wireline Competition Bureau.

[FR Doc. 2014-05940 Filed 3-17-14; 8:45 am]

BILLING CODE 6712-01-P